DEPARTMENT OF EDUCATION

Reopening; Applications for New Awards; Fostering Diverse Schools Demonstration Program

AGENCY: Office of Elementary and Secondary Education, Department of Education.

ACTION: Notice.

SUMMARY: On May 8, 2023, the Department of Education (Department) published in the Federal Register a notice inviting applications (NIA) for the fiscal year (FY) 2023 Fostering Diverse Schools Demonstration Program (84.424G). The NIA established a deadline date of July 7, 2023, for the transmittal of applications. This notice reopens the competition to allow for transmittal of applications until July 28, 2023, and extends the deadline for intergovernmental review until September 26, 2023.

DATES:

Deadline for Transmittal of Applications: July 28, 2023.

Deadline for Intergovernmental Review: September 26, 2023.

FOR FURTHER INFORMATION CONTACT: Rich Wilson, U.S. Department of Education, 400 Maryland Avenue SW, Washington, DC 20202-6450. Telephone: (202) 453-6709. Email: FDS@ed.gov.

If you are deaf, hard of hearing, or have a speech disability and wish to access telecommunications relay services, please dial 7-1-1.

SUPPLEMENTARY INFORMATION: On May 8, 2023, we published the NIA in the Federal Register (88 FR 29641). The NIA established a deadline date of July 7, 2023, for the transmittal of applications. We are reopening the competition to allow applicants more time to prepare and submit their applications. Accordingly, this notice extends the deadline for intergovernmental review.

Applicants that have submitted applications on or before the original deadline date of July 7, 2023, may resubmit their applications on or before the new application deadline date of July 28, 2023, but are not required to do so. If a new application is not submitted, the Department will use the application that was submitted by the original deadline. If a new application is submitted, the Department will consider the application that was last successfully submitted and received by 11:59:59 p.m., Eastern Time, on July 28, 2023.

Note: All information in the NIA for this competition remains the same, except for the deadline for the transmittal of applications and the deadline for intergovernmental review.

Program Authority: Section 4103(a)(3) of the ESEA (20 U.S.C. 7113(a)(3)).

Accessible Format: On request to the program contact listed under FOR FURTHER INFORMATION CONTACT, individuals with disabilities can obtain this notice, the NIA, and a copy of the application package in an accessible format. The Department will provide the requestor with an accessible format that may include Rich Text Format (RTF) or text format (TXT), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James Lane,
Principal Deputy Assistant Secretary, Delegated the Authority to Perform the Functions and Duties of the Assistant Secretary for Elementary and Secondary Education.

[FR Doc. 2023-14643 Filed 7-7-23; 8:45 am]

BILLING CODE 4000-01-P